ENVIRONMENTAL PROTECTION AGENCY

[EPA-HQ-OPP-2021-0377; FRL-10025-04]

Atrazine, Simazine, and Malathion; Notice of Receipt of Requests to Voluntarily Cancel Certain Pesticide Registrations and/or Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain products containing the pesticides atrazine and simazine, and/or to amend their atrazine, simazine, or malathion product registrations to terminate or delete one or more uses. The requests would delete atrazine use in or on roadsides; Conservation Reserve Program (CRP) land; conifers, including Christmas tree plantings; timber and forestry; and miscanthus and other perennial bioenergy crops. The requests would delete simazine use in or on shelterbelts and all forestry uses except for Christmas tree plantings. The requests would delete malathion use as a mosquito larvicide and in or on cull piles (including the terms cull dumps, fruit dumps, and cull fruit and vegetable dumps). The requests are limited to the product registrations specified in this notice and would not terminate all of the atrazine, simazine, or malathion products registered for use in the United States. EPA intends to grant these requests at the close of the comment period for this announcement unless the Agency receives substantive comments within the comment period that would merit its further review of the requests, or unless the registrants withdraw their requests. If these requests are granted, any sale, distribution, or use of products listed in this notice will be permitted after the registrations have been cancelled/uses deleted only if such sale, distribution, or use is consistent with the terms as described in the final order.

DATES: Comments must be received on or before July 23, 2021.

ADDRESSES: Submit your comments, identified by docket identification (ID) number EPA-HQ-OPP-2021-0377, online at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit http://www.epa.gov/dockets.

FOR FURTHER INFORMATION CONTACT: Alexander Hazlehurst, Pesticide Re-Evaluation Division (7508P), Office of Pesticide Programs, Environmental Protection Agency, 1200 Pennsylvania Ave. NW, Washington, DC 20460-0001; telephone number: (703) 347-0221; email address: Hazlehurst.alexander@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document announces receipt by EPA of requests from registrants to cancel certain and/or delete certain uses of atrazine, simazine, and malathion product registrations. The affected products and the registrants making the requests are identified in Tables 1, 2 and 3 of this unit.

Unless a request is withdrawn by the registrant or if the Agency determines that there are substantive comments that warrant further review of this request, EPA intends to issue an order canceling and/or amending the affected registrations.

Table 1—Atrazine and Simazine Product Registrations With Pending Requests for Cancellation
Registration No. | Product name | Company
100-886 | Bicep Magnum Herbicide | Syngenta Crop Protection, LLC.
279-3449 | F9316-2 | FMC Corporation.
352-600 | DPXMX670 MT herbicide | E. I. du Pont de Nemours and Company.
352-723 | DuPont Breakfree ATZ Lite | E. I. du Pont de Nemours and Company.
352-724 | DuPont Breakfree ATZ Herbicide | E. I. du Pont de Nemours and Company.
352-893 | DuPont Breakfree NXT ATZ Herbicide | E. I. du Pont de Nemours and Company.
352-895 | DuPont Breakfree NXT ATZ Lite Herbicide | E. I. du Pont de Nemours and Company.
524-497 | MON 58442 Herbicide | Bayer CropScience LP.
524-509 | MON 78088 Herbicide | Bayer CropScience LP.
8660-12 | Herbicide Granules Formula A | United Industries Corporation.
9688-227 | Chemsico Herbicide Granules AN | Chemsico (Division of United Industries Corporation).
9688-274 | Chemsico Herbicide Granules LAH | Chemsico (Division of United Industries Corporation).
33270-13 | Tremor AT | Winfield Solutions, LLC.
33270-14 | Tremor AT Lite | Winfield Solutions, LLC.
34704-686 | Simazine 90 WDG | Loveland Products, Inc.
34704-687 | Simazine 4L Flowable Herbicide | Loveland Products, Inc.
34704-689 | Conifer 90 Herbicide | Loveland Products, Inc.
34704-690 | Clean Crop Atrazine 4L Turf & Conifer Herbicide | Loveland Products, Inc.
34704-728 | Shotgun Flowable Herbicide | Loveland Products, Inc.
34704-860 | Rifle Plus Herbicide | Loveland Products, Inc.
34704-892 | Bronze | Loveland Products, Inc.
34704-913 | SMZ 4L | Loveland Products, Inc.
34704-916 | Simazine 90 Herbicide | Loveland Products, Inc.
34704-950 | Cadence ATZ Herbicide | Loveland Products, Inc.
34704-952 | Cadence Lite ATZ Herbicide | Loveland Products, Inc.
34704-1041 | Slider ATZ | Loveland Products, Inc.
34704-1042 | Slider ATZ Lite | Loveland Products, Inc.
34704-1070 | LPI S-Metolachor + Atrazine | Loveland Products, Inc.
34704-1072 | LPI S-Metolachor + Atrazine Herbicide | Loveland Products, Inc.
42750-41 | Dicambazine | Albaugh, LLC.
42750-44 | Atrazine 4L | Albaugh, LLC.
42750-45 | Weed pro Atrazine 4L Herbicide | Albaugh, LLC.
42750-50 | Brox-AT Herbicide | Albaugh, LLC.
42750-53 | Albaugh Atrazine 90 DF | Albaugh, LLC.
55467-6 | Volley ATZ Lite Tenkoz Herbicide | Tenkoz, Inc.
55467-7 | Volley ATZ Tenkoz Herbicide | Tenkoz, Inc.
59639-106 | Atrazine 90 DF Herbicide | Valent U.S.A., LLC.
66222-280 | ADA 68702 | Makhteshim Agan of North America, Inc. (d/b/a ADAMA).
66222-281 | ADA 68703 | Makhteshim Agan of North America, Inc. (d/b/a ADAMA).
70506-232 | UPL Simazine 4L | UPL NA Inc.
70506-233 | Simazine 90DF Herbicide | UPL NA Inc.
KS040002 | Weed Pro Atrazine 4L Herbicide | Albaugh, LLC.
KS130001 | Atrazine 4L | Makhteshim Agan of North America, Inc. (d/b/a ADAMA).
SD100003 | Slider ATZ | Loveland Products, Inc.
SD100004 | Slider ATZ Lite | Loveland Products, Inc.
WA900005 | Clean Crop Simazine 4L Flowable Herbicide | Loveland Products, Inc.
WA200002 | Atrazine 4L | Loveland Products, Inc.

Table 2—Atrazine, Simazine, and Malathion Product Registrations With Pending Requests for Amendment
Registration No. | Product name | Company | Uses to be deleted
100-497 | AAtrex® 4L Herbicide | Syngenta Crop Protection, LLC | Roadsides; Conservation Reserve Program (CRP) land; conifers including Christmas tree plantings; timber and forestry.
100-585 | AAtrex® Nine-O® Herbicide | Syngenta Crop Protection, LLC
100-1207 | Atrazine Technical | Syngenta Crop Protection, LLC
100-1235 | Atrazine Base Mix Manufacturing Use Product | Syngenta Crop Protection, LLC
100-1236 | Atrazine Wet Paste Manufacturing Use Product | Syngenta Crop Protection, LLC
100-1650 | Atrazine 4L MUP | Syngenta Crop Protection, LLC
100-1659 | Atrazine Nine-O® MUP | Syngenta Crop Protection, LLC
1381-158 | Atrazine 4L | Winfield Solutions, LLC | Roadsides; Conservation Reserve Program (CRP) land; conifers.
4787-5 | Fyfanon Technical | FMC Corporation | Mosquito larvicide; cull piles (including terms cull dumps, fruit dumps, and cull fruit and vegetable dumps).
5905-250 | Fyfanon 8 lb. Emulsion | Helena Agri-Enterprises, LLC | Cull piles (including terms cull dumps, fruit dumps, and cull fruit and vegetable dumps).
5905-470 | Atrazine 4L | Helena Agri-Enterprises, LLC | Roadsides; Conservation Reserve Program (CRP) land.
5905-522 | Atrazine 90 DF Herbicide | Helena Agri-Enterprises, LLC
9779-253 | Atrazine 90 DF | Winfield Solutions, LLC | Roadsides; Conservation Reserve Program (CRP) land; conifers.
9779-295 | Simazine 90DF | Winfield Solutions, LLC | Shelterbelt.
9779-296 | Simazine 4L | Winfield Solutions, LLC | Shelterbelt.
10163-21 | Malathion 8 | Gowan Company | Mosquito larvicide; cull piles (including terms cull dumps, fruit dumps, and cull fruit and vegetable dumps).
19713-217 | Drexel Malathion 5EC | Drexel Chemical Company | Mosquito larvicide; cull piles (including terms cull dumps, fruit dumps, and cull fruit and vegetable dumps).
19713-288 | Drexel Malathion ULV Insecticide | Drexel Chemical Company
19713-304 | Green Devil Spray | Drexel Chemical Company
19713-330 | Drexel Malathion 50% Emulsifiable | Drexel Chemical Company
19713-402 | Drexel Malathion Technical | Drexel Chemical Company
19713-540 | Drexel Malathion ULV 96.5% | Drexel Chemical Company
19713-565 | Atrazine Technical 2 | Drexel Chemical Company | Roadsides; Conservation Reserve Program (CRP); conifers including Christmas tree plantings; timber and forestry.
19713-566 | Drexel Atrazine Technical | Drexel Chemical Company | Roadsides; Conservation Reserve Program (CRP); conifers, Christmas tree plantations.
33270-9 | Atrazine 90 DF | Winfield Solutions, LLC | Roadsides; Conservation Reserve Program (CRP) land; conifers.
33270-10 | Atrazine 4L | Winfield Solutions, LLC
33270-24 | Tremor Atz Nxt | Winfield Solutions, LLC | Miscanthus and other non-food perennial bioenergy crops.
33270-25 | Tremor Atz Lite Nxt | Winfield Solutions, LLC
34704-452 | Malathion 8E Insecticide | Loveland Products, Inc | Cull piles (including terms cull dumps, fruit dumps, and cull fruit and vegetable dumps).
34704-787 | Malathion Technical | Loveland Products, Inc | Mosquito larvicide; cull piles (including terms cull dumps, fruit dumps, and cull fruit and vegetable dumps).
35915-3 | Atrazine 90 Herbicide | Sipcam Agro USA, Inc | Roadsides; Conservation Reserve Program (CRP) land; conifers.
35915-14 | Oxon Italia Atrazine Technical II | Sipcam Agro USA, Inc | Roadsides; conifers including Christmas tree plantings; forestry.
47000-107 | Prozap Malathion 57% Emulsifiable Liquid | Neogen Corporation | Cull piles (including terms cull dumps, fruit dumps, and cull fruit and vegetable dumps).
55467-13 | Tenkoz Atrazine 4L Herbicide | Tenkoz, Inc | Roadsides; Conservation Reserve Program (CRP) land; conifers including Christmas tree plantings; timber and forestry; Miscanthus and other non-food perennial bioenergy crops.
66330-220 | Malathion 5 EC | UPL OpenAg | Cull piles (including terms cull dumps, fruit dumps, and cull fruit and vegetable dumps).
74530-85 | Fearless Xtra Herbicide | HELM Agro US, Inc | Miscanthus and other non-food perennial bioenergy crops.
74530-89 | Fearless Xtra 5.6L Herbicide | HELM Agro US, Inc
83529-87 | Sharda Acetochlor 29% + Atrazine 14.5% CS | Sharda USA, LLC | Miscanthus and other non-food perennial bioenergy crops.
83529-93 | Sharda Acetochlor 33.4% + Atrazine 26.9% SE | Sharda USA, LLC
83529-116 | Sharda Acetochlor 46.3% + Atrazine 18.3% SE | Sharda USA, LLC
89167-10 | AX ATZ 4L | Axion Ag Products, LLC | Roadsides; Conservation Reserve Program (CRP) land; conifers including Christmas tree plantings.
89167-30 | AX Acetozine 2 NG | Axion Ag Products, LLC | Miscanthus and other non-food perennial bioenergy crops.
89167-32 | AX Acetozine NG | Axion Ag Products, LLC | Miscanthus and other non-food perennial bioenergy crops.
89167-38 | AX ATZ 4L-2 Herbicide | Axion Ag Products, LLC | Roadsides; Conservation Reserve Program (CRP) land; conifers including Christmas tree plantings.
89168-29 | Liberty Atrazine 4L | Liberty Crop Protection, LLC | Roadsides; Conservation Reserve Program (CRP) land; conifers including Christmas tree plantings.
89168-32 | Liberty Atrazine 90 Herbicide | Liberty Crop Protection, LLC
89168-35 | Liberty ATZ 4L | Liberty Crop Protection, LLC
94143-1 | INATEK Atrazine Technical | INATEK, LLC | Roadsides; Conservation Reserve Program (CRP) land; and conifers.
94144-1 | Atrazine 90DF | Infinicrop, LLC | Roadsides; Conservation Reserve Program (CRP) land; conifers including Christmas tree plantings.
11773-1 | Cornbelt Atrazine 4L | Van Diest Supply Company | Roadsides; Conservation Reserve Program (CRP) land; conifers.
11773-13 | Cornbelt Atrazine 90 DF | Van Diest Supply Company | Roadsides; conifers.
33270-26 | Simazine 90DF | Winfield Solutions, LLC | Shelterbelt.
33270-27 | Simazine 4L | Winfield Solutions, LLC | Shelterbelt.
KS120001 | Tenkoz Atrazine 4L Herbicide | Tenkoz, Inc | Roadsides; Conservation Reserve Program (CRP) land; conifers including Christmas tree plantings; timber and forestry; Miscanthus and other non-food perennial bioenergy crops.

Table 3 of this unit includes the names and addresses of record for the registrants of the products listed in Tables 1 and 2 of this unit, in sequence by EPA company number. This number corresponds to the first part of the EPA registration numbers of the products listed in Tables 1 and 2 of this unit.

Table 3—Registrants Requesting Voluntary Cancellation and/or Amendments to Atrazine, Simazine and Malathion Product Registrations
EPA company No. | Company name and address
100 | Syngenta Crop Protection, LLC, P.O. Box 18300, Greensboro, NC 27419.
279 | FMC Corporation, 2929 Walnut Street, Philadelphia, PA 19104.
352 | E. I. du Pont de Nemours and Company, 9330 Zionsville Road, Indianapolis, IN 46268.
524 | Bayer CropScience LP, 800 North Lindbergh Blvd., St. Louis, MO 63167.
1381 | Winfield Solutions, LLC, P.O. Box 64589, MS 5705, St. Paul, MN 55164.
4787 | FMC Corporation, 2929 Walnut Street, Philadelphia, PA 19104.
5905 | Helena Agri-Enterprises, LLC, 225 Schilling Blvd., Suite 300, Collierville, TN 38017.
8660 | United Industries Corp., D/B/A Sylorr Plant Corp., P.O. Box 142642, St. Louis, MO 63114-0642.
9688 | Chemsico, Division of United Industries Corporation, P.O. Box 142642, St. Louis, MO 63114-0642.
9779 | Winfield Solutions, LLC, P.O. Box 64589, MS 5705, St. Paul, MN 55164.
10163 | Gowan Company, P.O. Box 5569, Yuma, AZ 85366.
11773 | Van Diest Supply Company, P.O. Box 610, Webster City, IA 50595-0610.
19713 | Drexel Chemical Company, 1700 Channel Avenue, P.O. Box 13327, Memphis, TN 38113.
33270 | Winfield Solutions, LLC, P.O. Box 64589, MS 5705, St. Paul, MN 55164.
34704 | Loveland Products, Inc. (Nutrien), 3005 Rocky Mountain Ave., Loveland, CO 80538.
35915 | Sipcam Agro USA, Inc., 2525 Meridian Parkway, Suite 350, Durham, NC 27713.
42750 | Albaugh, LLC, P.O. Box 2127, Valdosta, GA 31604.
47000 | Neogen Corporation, 620 Lesher Place, Lansing, MI 48912.
55467 | Tenkoz, Inc., 1725 Windward Concourse, Suite 410, Alpharetta, GA 30005-1784.
59639 | Valent U.S.A. LLC, 4600 Norris Canyon Road, P.O. Box 5075, Walnut Creek, CA 94596.
66222 | Makhteshim Agan of North America, Inc. (d/b/a ADAMA), 3120 Highwoods Blvd., Suite 100, Raleigh, NC 27312.
66330 | UPL NA, Inc., 630 Freedom Business Center, Suite 402, King of Prussia, PA 19406.
70506 | UPL Open Ag, 630 Freedom Business Center, Suite 402, King of Prussia, PA 19406.
74530 | HELM Agro US, Inc., 401 East Jackson Street, Suite 1400, Tampa, FL 33602.
83529 | Sharda USA, LLC, 34 E. Germantown Pike #227, Norristown, PA 19401.
89167 | Axion Ag Products, LLC, 1880 Fall River Drive, Suite 100, Loveland, CO 80538.
89168 | Liberty Crop Protection, LLC, 1880 Fall River Drive, Suite 100, Loveland, CO 80538.
94143 | INATEK, LLC, 4110 136th ST CT NW, Gig Harbor, WA 98332.
94144 | Infinicrop LLC, 4110 136th ST CT NW, Gig Harbor, WA 98332.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The atrazine, simazine, and malathion registrants have requested that EPA waive the 180-day comment period. Accordingly, EPA will provide a 30-day comment period on the proposed requests.

IV. Procedures for Withdrawal of Requests

Registrants who choose to withdraw a request for product cancellation or use deletion should submit the withdrawal in writing to the person listed under FOR FURTHER INFORMATION CONTACT. If the products(s) have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and/or amendments to delete uses are granted, the Agency intends to publish the cancellation/use deletion order in the Federal Register.

In any order issued in response to these requests for cancellation of a product registration/product registrations and/or for an amendment/amendments to delete uses, EPA proposes to include the following provisions for the treatment of any existing stocks of the products listed in Tables 1 and 2 of Unit II.

For voluntary product cancellations, registrants will be permitted to sell and distribute existing stocks of voluntarily canceled products for 1 year after the effective date of the cancellation, which will be the date of publication of the cancellation/use deletion order in the Federal Register. Thereafter, registrants will be prohibited from selling or distributing the products identified in Table 1 of Unit II., except for export consistent with FIFRA section 17 (7 U.S.C. 136o) or for proper disposal.

Once EPA has approved product labels reflecting the requested amendments to delete uses, registrants will be permitted to sell or distribute products under the previously approved labeling for a period of 18 months after the date of Federal Register publication of the cancellation/use deletion order, unless other restrictions have been imposed. Thereafter, registrants will be prohibited from selling or distributing the products whose labels include the deleted uses identified in Table 2 of Unit II., except for export consistent with FIFRA section 17 or for proper disposal.

Persons other than the registrant may sell, distribute, or use existing stocks of canceled products/products whose labels include the deleted uses until supplies are exhausted, provided that such sale, distribution, or use is consistent with the terms of the previously approved labeling on, or that accompanied, the canceled products/deleted uses.

Authority: 7 U.S.C. 136 et seq.

Dated: June 16, 2021.
Mary Reaves,
Director, Pesticide Re-Evaluation Division, Office of Pesticide Programs.

[FR Doc. 2021-13151 Filed 6-22-21; 8:45 am]

BILLING CODE 6560-50-P